DEPARTMENT OF LABOR

Employment and Training Administration

[TA-W-53,499]

Supreme Elastic Corporation, Hickory, NC; Notice of Termination of Investigation

Pursuant to Section 221 of the Trade Act of 1974, as amended, an investigation was initiated on November 10, 2003 in response to a petition filed by a company official on behalf of workers at Supreme Elastic Corporation, Hickory, North Carolina.

The petitioner has requested that the petition be withdrawn. Consequently, the investigation has been terminated.

Signed at Washington, DC this 25th day of November, 2003.
Elliott S. Kushner,
Certifying Officer, Division of Trade Adjustment Assistance.

[FR Doc. 03-31676 Filed 12-23-03; 8:45 am]

BILLING CODE 4510-30-P